DEPARTMENT OF COMMERCE

Foreign-Trade Zones Board

[Docket 7-2012]

Foreign-Trade Zone 45—Portland, Oregon, Expansion of Manufacturing Authority, Epson Portland, Inc.; Extension of Comment Period

The comment period for the application to expand the scope of manufacturing authority approved within Subzone 45F on behalf of Epson Portland, Inc., in Hillsboro, Oregon, submitted by the Port of Portland (77 FR 4006-4007, 1/26/2012 and 77 FR 21082, 4/9/2012), is being extended to May 23, 2012, to allow interested parties additional time in which to comment. Rebuttal comments may be submitted during the subsequent 15-day period, until June 7, 2012. Submissions (original and one electronic copy) shall be addressed to the Board's Executive Secretary at: Foreign-Trade Zones Board, U.S. Department of Commerce, Room 2111, 1401 Constitution Ave. NW., Washington, DC 20230 and ftz@trade.gov.

FOR FURTHER INFORMATION CONTACT: Diane Finver at Diane.Finver@trade.gov or (202) 482-1367.

Dated: April 27, 2012.
Andrew McGilvray,
Executive Secretary.

[FR Doc. 2012-10685 Filed 5-2-12; 8:45 am]

BILLING CODE P